DEPARTMENT OF TRANSPORTATION

Federal Highway Administration

Environmental Impact Statement: Hillsborough and Rockingham Counties, NH

AGENCY: Federal Highway Administration (FHWA), DOT.

ACTION: Notice of Intent.

SUMMARY: The FHWA is issuing this notice to advise the public that an environmental impact statement (EIS) is being prepared for a proposed highway project in Hillsborough and Rockingham Counties, New Hampshire. A Notice of Intent for the project was previously published on February 21, 1992. Subsequently the project was put on hold pending development of a Statewide Transportation Model.

FOR FURTHER INFORMATION CONTACT: Mr. William F. O'Donnell, P.E., Environmental Program Manager, Federal Highway Administration, 279 Pleasant Street, Suite 204, Concord, New Hampshire, 03301-7502, Telephone: (603) 228-0417, or Mr. William R. Hauser, Administrator, Bureau of Environment, New Hampshire Department of Transportation, P.O. Box 483, John O. Morton Building, Concord, New Hampshire 03302-0483, Telephone: (603) 271-3226.

SUPPLEMENTARY INFORMATION: The FHWA, in cooperation with the New Hampshire Department of Transportation (NHDOT), is in the process of preparing an environmental impact statement (EIS) for a proposal for construction on a section of an existing highway facility (I-93 extending from the Massachusetts/New Hampshire State Line in Salem to just south of Exit 6 in Manchester) that serves as a major transportation link for the State of New Hampshire.

The proposed action would relieve traffic congestion, reduce travel time, improve safety and accommodate projected increases in traffic demand.

Alternatives to be considered include (1) taking no action; (2) upgrading the existing route (approximately 18 miles in length) to add capacity; (3) constructing high occupancy vehicle lanes, as well as other Transportation Demand Management (TDM) measures such as carpool parking lots; (4) constructing mass transportation facilities in or adjacent to the existing corridor; and (5) combinations of these alternatives. Various designs of grade, alignment, geometry and access will be evaluated. An Advisory Task Force has been established with representation from the regional planning agencies, state and local officials, business and industry and local citizens.

Letters describing the proposed action and soliciting comments were previously sent to appropriate federal, state and local agencies, and to private organizations and citizens who have interest in this proposal. Public informational, community and Advisory Task Force meetings have been held in study area and will continue as the project progresses, in order to include public input in the project development process. A public hearing will be held following distribution of the Draft Environmental Impact Statement (DEIS). Public notice will be given regarding the time and location of this hearing. The DEIS will be available for review and comment by the public and interested agencies prior to the public hearing.

Because this project has been on hold for a substantial period of time, a second formal scoping meeting will be held at 4:00 pm. on December 6, 2000, the 3rd floor Auditorium of the University of NH-Manchester Campus, 3000 Commercial Street in Manchester, New Hampshire. The purpose of this meeting is to (1) reaffirm the limits of the project study area; (2) refine the study framework and the impacts to be analyzed; and (3) redefine a reasonable range of alternatives to be considered.

Agencies participating as cooperating agencies are the U.S. Army Corps of Engineers (ACOE), the U.S. Environmental Protection Agency (EPA), the New Hampshire State Historic Preservation Office (SHPO) and the New Hampshire Wetlands Bureau.

To ensure the full range of issues related to this proposed action are addressed and all significant issues identified, comments and suggestions are invited from all interested parties. Comments or questions concerning this proposal and the EIS should be directed to the FHWA or the NHDOT at the addresses provided above. (Catalog of Federal Domestic Assistance Program Number 20.205, Highway Planning and Construction. The regulations implementing Executive Order 12372 regarding intergovernmental consultation on federal programs and activities apply to this program.)

Issued on: October 20, 2000.
Kathleen O. Laffey,
Division Administrator, Concord, New Hampshire.

[FR Doc. 00-27669 Filed 10-26-00; 8:45 am]

BILLING CODE 4910-22-M